DEPARTMENT OF VETERANS AFFAIRS

Wait-Time Goals of the Department for the Veterans Choice Program

AGENCY: Department of Veterans Affairs.

ACTION: Notice.

SUMMARY: The Veterans Access, Choice, and Accountability Act of 2014 directs the Department of Veterans Affairs (VA) to establish a program (the “Veterans Choice Program”) to furnish hospital care and medical services through non-VA health care entities and providers to Veterans who either cannot be seen within the “wait-time goals of the Veterans Health Administration” or who qualify based on their place of residence. The statute defines the goals as being “not more than 30 days from the date on which a veteran requests an appointment for hospital care or medical services from the Department” but also permits VA to establish another standard by submitting to Congress a report stating that VA's actual goals are different. This Federal Register Notice announces VA's report on the wait-time goals for purposes of the Veterans Choice Program.

ADDRESSES: The report on the wait-time goals of the Veterans Health Administration for purposes of the Veterans Choice Program is available on the www.va.gov/health Web site.

FOR FURTHER INFORMATION CONTACT: James A. Tuchschmidt, MD, Acting Principal Deputy Under Secretary for Health (10A), 810 Vermont Avenue NW., Washington, DC 20420, Telephone: 202-461-7008 (this is not a toll-free number).

SUPPLEMENTARY INFORMATION: Section 101 of the Veterans Access, Choice, and Accountability Act of 2014 (Pub. L. 113-146, “the Act”) directs the Department of Veterans Affairs (VA) to establish a program (the “Veterans Choice Program”) to furnish hospital care and medical services through non-VA health care entities and providers to Veterans who either cannot be seen within the “wait-time goals of the Veterans Health Administration” or who qualify based on their place of residence. The statute, in section 101(s)(1), defines the goals as being “not more than 30 days from the date on which a veteran requests an appointment for hospital care or medical services from the Department.” The statute, in section 101(s)(2), also permits VA to establish another standard by submitting to Congress, not later than 60 days after the date of the enactment of the Act, a report stating that VA's actual goals are different.

This Federal Register Notice announces the report on the wait-time goals of the Veterans Health Administration for purposes of the Veterans Choice Program. The report provides that the goals of the Veterans Health Administration are as follows:

Unless changed by further notice in the Federal Register, the term “wait-time goals of the Veterans Health Administration” means not more than 30 days from either the date that an appointment is deemed clinically appropriate by a VA health care provider, or if no such clinical determination has been made, the date a Veteran prefers to be seen for hospital care or medical services. In the event a VA health care provider identifies a time range when care must be provided (e.g., within the next 2 months), VA will use the last clinically appropriate date for determining whether or not such care is timely. The Department anticipates that the Under Secretary for Health periodically will consider changes to the wait-time goals of the Veterans Health Administration as appropriate.

Signing Authority

The Secretary of Veterans Affairs, or designee, approved this document and authorized the undersigned to sign and submit the document to the Office of the Federal Register for publication electronically as an official document of the Department of Veterans Affairs. Jose D. Riojas, Chief of Staff, approved this document on October 14, 2014, for publication.

Dated: October 15, 2014.
William F. Russo,
Acting Director, Office of Regulation Policy & Management, Office of the General Counsel, U.S. Department of Veterans Affairs.

[FR Doc. 2014-24897 Filed 10-16-14; 8:45 am]

BILLING CODE 8320-01-P